DEPARTMENT OF DEFENSE

Department of the Army

Performance Review Board Membership

AGENCY: Department of the Army, DoD.

ACTION: Notice.

SUMMARY: Notice is given of the names of members of a Performance Review Board for the Department of the Army.

Effective Date: September 30, 2005.

FOR FURTHER INFORMATION CONTACT: Lucrecia Murdock, Human Resource Management Directorate, Execute Services Division, 2511 Jefferson Davis Highway, Arlington, VA 22202-3926.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the Army Acquisition Executive (AAE) Corps are:

1. Mr. Edward Bair, Program Executive Officer, Intelligence, Electronic Warfare, and Sensors, AAE.

2. Dr. James T. Blake, Deputy to the Commander, PEO STRI.

3. Mr. Paul Bogosian, Deputy Program Executive for Aviation, AAE.

4. BG Samuel M. Cannon, Program Executive Officer, Missiles and Space.

5. Mr. T. Kevin Carroll, Program Executive Officer, Enterprise Information Systems, AAE.

6. Mr. James M. Crum, Deputy Director Program Management Office, Iraq Reconstruction/Director Program Management Office Washington.

7. Mr. Kevin M. Fahey, Deputy PEO, Ground Combat Systems.

8. Mr. Kevin J. Flamm, Program Manager for Chemical Demilitarization Operations OASA (Acquisition, Logistics & Technology).

9. Ms. JoAnn H. Langston, Director, Northern Region, U.S. Army Contracting Agency.

10. Mr. David W. Ludwig, Deputy Program Executive Officer, Command, Control and Communications (Tactical).

11. Mr. Levator Norsworthy Jr., Deputy General Counsel (Acquisition), Headquarters, Department of the Army, OGC.

12. Mr. William R. Smith, Deputy Program Executive Officer for Soldier, AAE.

13. Mr. Byron J. Young, Director, Information Technology E-Commerce, and Commercial Contracting Center, Army Contracting Agency.

The members of the Performance Review Board for the Defense Intelligence Senior Executive Service are:

1. MG John De Freitas, Commanding General, U.S. Army Intelligence and Security Command.

2. Mr. Thomas A. Gandy, Director, Counterintelligence, Human Intelligence.

3. Mr. Darell G. Lance, Chief of Staff, U.S. Army Intelligence and Security Command.

4. Mr. Maxie L. McFarland, Deputy Chief of Staff for Intelligence, U.S. Army Training and Doctrine Command.

5. Mr. Jerry V. Proctor, Deputy for Futures, U.S. Army Training and Doctrine Command.

6. Mr. Mark A. Smith, Deputy Director for Intelligence, United States Southern Command.

7. Mr. Robert J. Winchester, Assistant for Intelligence Liaison, Office, Chief of Legislative Liaison.

The members of the Performance Review Board for the Defense Intelligence Senior Level are:

1. Mr. Stephen R. Covington, Special Assistant to the Supreme Allied Commander, Europe for Strategic Studies of the Former Soviet Union.

2. Mr. Thomas F. Greco, Special Assistant to the G-2, Headquarters, U.S. Army Europe and 7th Army.

3. Mr. Ernie H. Furany, Senior General Military Intelligence Analyst, National Ground Intelligence Center.

4. Mr. Jerry V. Proctor, Deputy for Futures, U.S. Army Training and Doctrine Command.

5. Ms. Mary L. Schnurr, Technical Advisor for Intelligence Information Management, Office, Deputy Chief of Staff, G-2.

6. Ms. Mary B. Scott, Chief Scientist, National Ground Intelligence Center.

7. Mr. William H. Speer, Technical Advisor, Foreign Intelligence Production, Office, Deputy Chief of Staff, G-2.

The members of the Performance Review Board for the North Atlantic Treaty Organization are:

1. Mr. Barry Pavel, Principal Director for Strategy.

2. Ms. Sandra R. Riley, Administrative Assistant to Secretary of the Army, Office of the Secretary.

3. Mr. Larry Stubblefield, Deputy Administrative Assistant to the Secretary of the Army/Executive Director, U.S. Army Resources and Programs Agency.

4. Mr. James Townsend, Principal Director for European and North Atlantic Treaty Organization Policy.

5. Mr. Alfred G. Volkman, Director, International Cooperations, Office of the Under Secretary of Defense, Acquisition, Technology and Logistics.

The members of the Performance Review Board for the Office of the Secretary of the Army are:

1. Mr. John J. Argodale, Deputy Assistant Secretary of the Army (Financial Operations), Office of the Assistant Secretary of the Army (Financial Management and Comptroller).

2. Mr. William A. Armbruster, Deputy Assistant Secretary of the Army for Privatization and Partnership, Office of the Assistant Secretary of the Army (OASA) (Installations and Environment).

3. Ms. Diane J. Armstrong, Director for CF/IT Investment, Integration and Evaluation, Office of the Chief Information Officer/G-6.

4. Mr. Stephen Bagby, Deputy Assistant Secretary of the Army (Cost and Economics), Office of the Assistant Secretary of the Army (Financial Management and Comptroller).

5. Ms. Earnestine Ballard, Deputy Assistant Secretary of the Army for Procurement and Policy, Office of the Assistant Secretary of the Army (Acquisition, Logistics & Technology).

6. Mr. Ronald G. Bechtold, Executive Director, U.S. Army Information Technology, Office of the Administrative Assistant to the Secretary of the Army.

7. Mr. Vernon Bettencourt, Jr., Deputy Chief Information Officer, Office of the Chief Information Officer/G-6.

8. Mr. William H. Campbell, Assistant to the Deputy Assistant Secretary of the Army (Budget), Office of the Assistant Secretary of the Army (Financial Management and Comptroller).

9. Mr. Joe C. Capps, Director, Enterprise Systems Technology Activity, NETCOM/9th Army Signal Command.

10. Dr. Craig E. College Deputy Assistant Secretary of the Army (Infrastructure Analysis), Office of the Assistant Secretary of the Army (Installations and Environment).

11. Mr. James C. Cooke, Special Assistant for Systems, Office of the Deputy Under Secretary of the Army.

12. Mr. Addison D. Davis, IV, Deputy Assistant Secretary of the Army (Environment, Safety and Occupational Health), Office of the Assistant Secretary of the Army (Installation and Environment).

13. Mr. Daniel B. Denning, Principal Deputy Assistant Secretary of the Army (Manpower and Reserve Affairs)/Deputy Assistant Secretary (Training, Readiness and Mobilization).

14. Dr. Henry C. Dubin, Assistant Deputy Under Secretary (Operations Research).

15. Mr. George S. Dunlop, Principal Deputy Assistant Secretary of the Army (Civil works)/Deputy Assistant Secretary of the Army (Legislation).

16. Mr. Terence M. Edwards, Director for Army Architecture Integration Cell, Chief Information Office/G-6.

17. Mr. Patrick J. Fitzgerald, Principal Deputy Auditor General, U.S. Army, Army Audit Agency.

18. BG Jeffrey W. Foley, Director or Architecture Operations, Networks and Space, G-6, Office of the Chief Information Officer/G-6.

19. Mr. Nelson M. Ford, Principal Deputy Assistant Secretary of the Army (Financial Management and Comptroller)/(Controls).

20. Ms. Janet L. Garber, Director, Test and Evaluation Management Agency.

21. Ms. Judith A. Guenther, Director of Investments, Office of the Assistant Secretary of the Army (Financial Management and Comptroller).

22. Mr. Joseph F. Guzowski, Principal Deputy Chief of Legislative Liaison, Office of the Secretary of the Army, Office of the Chief of Legislative Liaison.

23. Ms. Stephanie L. Hoehne, Principal Deputy Chief of Public Affairs/Director, Soldiers Media Center.

24. Mr. Walter W. Hollis, Deputy Under Secretary of the Army (Operations Research), Office of the Under Secretary of the Army.

25. Mr. Edward C. Horton, Deputy for Services and Operations/Executive Director, U.S. Army Services and Operations Agency, Office of the Administrative Assistant to the Secretary of the Army.

26. Mr. Craig D. Hunter, Deputy Assistant Secretary of the Army for Defense Exports and Cooperation, Office of the Assistant Secretary of the Army (Acquisition, Logistics & Technology).

27. Dr. Daphne K. Kamely, Special Assistant to the Deputy Assistant Secretary of the Army for Environment, Safety, and Occupational Health, Office of the Assistant Secretary of the Army (Installations and Environment).

28. Mr. Thomas E. Kelly, III, Deputy Under Secretary of the Army.

29. Dr. Thomas H. Killion, Deputy Assistant Secretary for Research and Technology/Chief Scientist, Office of the Assistant Secretary of the Army (Acquisition, Logistics & Technology).

30. Mr. Michael A. Kirby, Special Assistant to the Secretary of the Army for Business Transformation Initiative, Office of the Secretary of the Army, Immediate Office.

31. Mr. Douglas W. Lamont, Deputy Assistant Secretary of the Army (Planning and Rev), Office of the Secretary of the Army (Civil Works).

32. Ms. JoAnn H. Langston, Director, Northern Region, U.S. Army Contracting Agency.

33. Ms. Carol E. Lowman, Director, Southern Region, U.S. Army Contracting Agency.

34. Mr. Mark D. Manning, Special Assistant to the Secretary of the Army, Assistant Secretary of the Army (Manpower and Reserve Affairs) for Manpower and Resources.

35. Mr. John P. McLaurin, III, Deputy Assistant Secretary of the Army (Human Resources), Office of the Assistant Secretary of the Army (Manpower and Reserve Affairs).

36. Ms. Kathleen S. Miller, Director of Business Resources, Office of the Assistant Secretary of the Army (Financial Management and Comptroller).

37. Mary Jo Miller, Director for Technology, Office of the Assistant Secretary of the Army (Acquisition, Logistics and Technology).

38. Mr. Wesley C. Miller, Director of Management and Control, Office of the Assistant Secretary of the Army (Financial Management and Comptroller).

39. Mr. Joseph P. Mizzoni, Deputy Auditor General, Policy and Operations Management, U.S. Army Audit Agency.

40. Ms. Joyce E. Morrow, The Auditor General, U.S. Army Audit Agency.

41. Mr. Levator Norsworthy, Jr., Deputy General Counsel (Acquisition), Office of the General Counsel.

42. Mr. Dale Ormond. Deputy Assistant Secretary for the Army for Elimination of Chemical Weapons, Office of the Assistant Secretary of the Army (Acquisition, Logistics & Technology).

43. Dr. John A. Parmentola, Director, Research and Laboratory Management, Office of the Assistant Secretary of the Army (Acquisition, Logistics & Technology).

44. Mr. Benjamin J. Piccolo, Deputy Auditor General, Forces and Financial Audits, U.S. Army Audit Agency.

45. Ms. Tracey L. Pinson, Director of Small and Disadvantaged Business Utilization, Office of the Secretary.

46. Mr. Wallace D. Plummer, Director of Operations and Support, Office of the Assistant Secretary of the Army (Financial Management and Comptroller).

47. Mr. Dean Popps, Principal Deputy to the Assistant Secretary of the Army (Acquisition, Logistics and Technology)/Director for Iraq Reconstruction and Program Management.

48. Mr. Geoffrey G. Prosch, Principal Deputy Assistant Secretary of the Army (Installations and Environment).

49. Mr. Wimpy D. Pybus, Deputy Assistant Secretary of the Army for Integrated Logistics Support, Office of the Assistant Secretary of the Army (Acquisition, Logistics and Technology).

50. Mr. Matt Reres, Deputy General Counsel (Ethics and Fiscal), Office of the General Counsel.

51. Ms. Sandra R. Riley, Administrative Assistant to Secretary of the Army, Office of the Secretary.

52. Mr. Richard G. Sayre, Special Assistant for Systems, Office of the Deputy Under Secretary of the Army.

53. Mr. Craig R. Schmauder, Deputy General Counsel (Civil works and Environment), Office of the General Counsel.

54. Mr. Karl F. Schneider, Deputy Assistant Secretary of the Army (Army Review Boards Agency), Office of the Director.

55. Ms. Sandra O. Sieber, Director, Army Contracting Agency.

56. Mr. Robert H. Smiley, Director, Reserve Affairs Integration Office, Office of the Secretary of the Army (Manpower and Reserve Affairs).

57. Mr. Harry E. Soyster, Special Assistant to the Secretary of the Army (World War II 60th Anniversary Observance).

58. Mr. Donald W. Spigelmyer, Executive Director, Residential Communities Initiatives, Office of the Assistant Secretary of the Army (Installations & Environment).

59. MG Edgar Stanton, Deputy Assistant Secretary of the Army (Budget), Office of the Assistant Secretary of the Army (Financial Management and Comptroller).

60. Mr. Larry Stubblefield, Deputy Administrative Assistant to the Secretary of the Army/Executive Director, U.S. Army Resources and Programs Agency.

61. Mr. Ramon Suris-Fernandez, Deputy Assistant Secretary of the Army (Equal Employment Opportunity and Civil Rights).

62. Mr. Thomas W. Taylor, Senior Deputy General Counsel, Office of the General Counsel.

63. Ms. Katherine S. Thompson, Director, Programs and Strategy, Office of the Assistant Secretary of the Army (Financial Management and Comptroller).

64. Ms. Claudia L. Tornblom, Deputy Assistant Secretary of the Army (Management and Budget), Office of the Assistant Secretary of the Army (Civil Works).

65. Ms. Carla A. Von Bernewitz, Director, Business Transformation Task Force, Office of the Under Secretary.

66. MG David F. Wherley, Jr., Director, District of Columbia National Guard, Office of the Secretary.

67. Mr. Joseph W. Whitaker, Jr., Deputy Assistant Secretary of the Army (Installations & Housing), Office of the Assistant Secretary of the Army (Installations & Environment).

68. Mr. Gary L. Winkler, Director for Enterprise Management, Office of the Chief Information Officer/G-6.

69. Mr. Byron J. Young, Director, Information Technology E-Commerce, and Commercial Contracting Center, Army Contracting Agency.

The members of the Performance Review Board for U.S. Army Corps of Engineers are:

1. Ms Kristine L. Allaman, Chief, Installation Support Division, Headquarters, U.S. Army Corps of Engineers.

2. Mr. Donald L. Basham, Chief, Engineering & Construction Division, Headquarters, U.S. Army Corps of Engineers.

3. BG Bruce A. Berwick, Commander, Great Lakes & Ohio River Division.

4. Mr. Stephen Coakley, Director of Resource Management, Headquarters, U.S. Army Corps of Engineers.

5. Dr. Susan L. Duncan, Director of Human Resources, Headquarters, U.S. Army Corps of Engineers.

6. BG William T. Grisoli, Commander, North Atlantic Division.

7. Ms. Wilhelmenia C. Hinton-Lee, Regional Business Director, Great Lakes & Ohio River Division.

8. Mr. Daniel H. Hitchings, Regional Business Director, Mississippi Valley Division.

9. Dr. James R. Houston, Director, Engineer Research & Development Center (ERDC).

10. MG Ronald L. Johnson, Deputy Commanding General.

11. Mr. Gary A. Loew, Chief, Program Management Division, Headquarters, U.S. Army Corps of Engineers.

12. Mr. Thomas W. Richardson, Director, Coastal & Hydraulics Laboratory, ERDC.

13. Mr. Mohan Sigh, Regional Business Director, North Atlantic Division.

14. Mr. Robert E. Slockbower, Regional Business Director, Southwestern Division.

15. Mr. Earl H. Stockdale, Chief Counsel, Headquarters, U.S. Army Corps of Engineers.

16. Mr. Steven L. Stockton, Deputy Director for Civil Works, Headquarters, U.S. Army Corps of Engineers.

17. BG Meredth W.B. Temple, Director of Military Programs, Headquarters, U.S. Army Corps of Engineers.

18. Mr. Michael B. White, Programs Director, Great Lakes & Ohio River Division.

Brenda S. Bowen,
Army Federal Register Liaison Officer.

[FR Doc. 05-22092 Filed 11-4-05; 8:45 am]

BILLING CODE 3710-08-M